FEDERAL DEPOSIT INSURANCE CORPORATION

[OMB No. 3064-0057; -0112; -0127; -0140; and -0175]

Agency Information Collection Activities: Submission for OMB Review; Comment Request

AGENCY: Federal Deposit Insurance Corporation (FDIC).

ACTION: Agency information collection activities: submission for OMB Review; comment request.

SUMMARY: The FDIC, as part of its obligations under the Paperwork Reduction Act of 1995, invites the general public and other Federal agencies to take this opportunity to comment on the renewal of the existing information collections described below. On March 17, 2020, the FDIC requested comment for 60 days on a proposal to renew these information collections. No comments were received. The FDIC hereby gives notice of its plan to submit to OMB a request to approve the renewal of these information collections, and again invites comment on their renewal.

DATES: Comments must be submitted on or before June 25, 2020.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street Building (located on F Street), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal To Renew the Following Currently Approved Collections of Information

1. Title: Quarterly Certified Statement Invoice for Deposit Insurance Assessment.

OMB Number: 3064-0057.

Affected Public: FDIC-insured depository institutions.

Burden Estimate:

Summary of Annual Burden
Information collection description | Type of burden | Obligation to respond | Estimated number of respondents | Estimated frequency of responses | Estimated time per response (minutes) | Estimated annual burden (hours)
Certified Statement for Quarterly Deposit Insurance Assessment (FDIC Form 6420/07) | Reporting | Mandatory | 5,258 | Quarterly | 20 | 7,011

Total Estimated Annual Burden: 7,011 hours.

General Description of Collection: The FDIC collects deposit insurance assessments on a quarterly basis. Each quarterly assessment is based on an insured depository institution's quarterly report of condition for the prior calendar quarter. The FDIC collects the quarterly assessment payments by means of direct debits through the Automated Clearing House network. The information collection consists of the reporting requirement associated with certifying the review by officials of the insured institutions to confirm that the assessment data are accurate and, in cases of inaccuracy, submission of corrected data.

There is no change in the substance or methodology of this information collection. The change in burden is due solely to the decrease in the estimated number of respondents by 823 from the estimated 6,081 annual respondents in the currently-approved information collection to the current estimate of 5,258. The decrease in estimated respondents is the result of the drop in the total number of insured depository institutions.

2. Title: Real Estate Lending Standards.

OMB Number: 3064-0112.

Summary of Annual Burden
Information collection description | Type of burden | Obligation to respond | Estimated number of respondents | Estimated frequency of responses | Estimated time per response (Hours) | Estimated A annual burden (Hours)
Real Estate Lending Standards | Recordkeeping | Mandatory | 3,344 | On Occasion | 20 | 66,880

Total Estimated Annual Burden: 66,880 hours.

Affected Public: Insured state nonmember banks and state savings associations.

Burden Estimate:

General Description of Collection: Section 1828(o) of the Federal Deposit Insurance Act requires each federal banking agency to adopt uniform regulations prescribing real estate lending standards. Part 365 of the FDIC Rules and Regulations, which implements section 1828(o), requires institutions to have real estate lending policies that include (a) limits and standards consistent with safe and sound banking practices; (b) prudent underwriting standards, including loan-to-value ratio (LTV) limits that are clear and measurable; (c) loan administration policies; (d) documentation, approval and reporting requirements; and (e) a requirement for annual review and approval by the board of directors. The rule also establishes supervisory LTV limits and other underwriting considerations in the form of guidelines. Since banks generally have written policies on real estate lending, the additional burden imposed by this regulation is limited to modifications to existing policies necessary to bring those policies into compliance with the regulation and the development of a system to report loans in excess of the guidelines to the board of directors.

There is no change in the substance or methodology of this information collection. The change in burden is due solely to the decrease in the estimated number of respondents by 534 from the estimated 3,878 annual respondents in the currently-approved information collection to the current estimate of 3,344. The decrease in estimated respondents is the result of the drop in the total number of FDIC-supervised institutions.

3. Title: Fast-Track Generic Clearance for the Collection of Qualitative Feedback.

OMB Number: 3064-0127.

Affected Public: General public including FDIC insured depository institutions.

Burden Estimate:

Summary of Annual Burden
Information collection description | Type of burden | Obligation to respond | Estimated number of respondents | Estimated frequency of responses | Estimated time per response (hours) | Estimated annual burden (hours)
Occasional Qualitative Surveys | Reporting | Voluntary | 850 | 20 | 1 | 17,000

Total Estimated Annual Burden: 17,000 hours.

General Description of Collection: The FDIC is requesting renewal of this approved collection to use occasional qualitative surveys to gather information from the public. While the subject and nature of the surveys to be deployed under this information collection are yet to be determined, based on prior experience it is expected that the number of respondents will range from a few to, at times several thousands, but, in general, these surveys are expected to involve an average of 850 respondents. Likewise, the time to respond to the surveys can range from a few minutes to several hours. It is expected that the average time to respond to a survey is approximately one hour. These surveys are completely voluntary in nature. FDIC estimates that approximately 20 such surveys will be conducted in any given year.

The purpose of the surveys is, in general terms, to obtain anecdotal information about regulatory burden, problems or successes in the bank supervisory process (including both safety-and-soundness and consumer-related exams), the perceived need for regulatory or statutory change, and similar concerns. The information in these surveys is anecdotal in nature, that is, samples are not necessarily random, the results are not necessarily representative of a larger class of potential respondents, and the goal is not to produce a statistically valid and reliable database. Rather, the surveys are expected to yield anecdotal information about the particular experiences and opinions of members of the public, primarily staff at respondent banks or bank customers. The information is used to improve the way FDIC relates to its clients, to develop agendas for regulatory or statutory change, and in some cases simply to learn how particular policies or programs are working, or are perceived in particular cases.

There is no change in the substance or methodology of this information collection. The change in burden is due solely to an increase in the estimated number of surveys to be deployed annually under this information collection. The increase in frequency from 15 to 20 surveys per year, resulted in an increase of 4,250 hours in total estimated annual burden from 12,750 hours to 17,000 hours.

4. Title: Insurance Sales Consumer Protection.

OMB Number: 3064-0140.

Affected Public: Insured State nonmember banks and savings associations that sell insurance products; persons who sell insurance products in or on behalf of insured State nonmember banks and savings associations.

Type of Burden: Third-party disclosure.

Obligation to Respond: Mandatory.

Burden Estimate:

Summary of Annual Burden
Information collection description | Type of burden | Obligation to respond | Estimated number of respondents | Estimated frequency of responses | Estimated time per response (hours) | Estimated annual burden (hours)
Insurance Sales Consumer Protections | Third Party Disclosure | Mandatory | 2,146 | On Occasion | 5 | 10,730

Total Estimated Annual Burden: 10,730.

General Description of Collection: Respondents must prepare and provide certain disclosures to consumers (e.g., that insurance products and annuities are not FDIC-insured) and obtain consumer acknowledgments, at two different times: (1) Before the completion of the initial sale of an insurance product or annuity to a consumer; and (2) at the time of application for the extension of credit (if insurance products or annuities are sold, solicited, advertised, or offered in connection with an extension of credit).

There is no change in the substance or methodology of this information collection. The change in burden is due solely to an increase in the estimated number of respondents which is derived from Call Report data indicating the number of by institutions offering insurance products. The number of respondents increased by 126 from 2,020 to 2,146.

5. Title: Interagency Guidance on Sound Incentive Compensation Practices.

OMB Number: 3064-0175.

Affected Public: Insured state nonmember banks and state savings associations.

Obligation to Respond: Voluntary.

Burden Estimate:

Summary of Annual Burden
| Type of burden | Estimated number of respondents | Estimated number of responses | Estimated time per response (hours) | Frequency of response | Total annual estimated burden (hours)
Document policies and procedures (Implementation) | Recordkeeping | 1 | 1 | 40 | Annual | 40
Annual maintenance of policies and procedures (Ongoing) | Recordkeeping | 2,164 | 1 | 2 | Annual | 4,328
Total Hourly Burden |  |  |  |  |  | 4,368

Methodology and Assumptions: Previously, each institution supervised by the FDIC was estimated to spend 40 hours per year maintaining a record of its policies and procedures regarding incentive based compensation. However, while an institution without any such policies and procedures may take 40 hours to completely document them for the first time, after performing the initial documentation, unless an institution needs to revise its policies and procedures, there should be no further recordkeeping burden. FDIC is using one respondent as a placeholder to represent any institution that adopt incentive based compensation for the first time. The estimate of 40 hours remains unchanged from the 2017 estimate. Supervisory experience shows that approximately 65% of large FDIC-supervised institutions revise their incentive-based compensation policies and procedures annually. FDIC estimates it takes approximately 2 hours for an institution to update its record of its policies and procedures related to incentive compensation. While a majority of the institutions supervised by the FDIC are small, and may not use incentive based compensation, or may use incentive based compensation arrangements less complex than those used at large institutions, FDIC assumes that each year approximately 65 percent of FDIC-supervised institutions will spend approximately 2 hours each revising their records of their incentive based compensation policies and procedures. As of December 31, 2019, the FDIC supervised 3,344 institutions. FDIC assumes that 2,164 (65%) of those institutions will revise their records of incentive based compensation policies and procedures each year.

General Description of Collection: This Guidance helps promote that incentive compensation policies at insured state non-member banks do not encourage excessive risk-taking and are consistent with the safety and soundness of the organization. Under this Guidance, banks are encouraged to: (i) Have policies and procedures that identify and describe the role(s) of the personnel and units authorized to be involved in incentive compensation arrangements, identify the source of significant risk-related inputs, establish appropriate controls governing these inputs to help ensure their integrity, and identify the individual(s) and unit(s) whose approval is necessary for the establishment or modification of incentive compensation arrangements; (ii) create and maintain sufficient documentation to permit an audit of the organization's processes for incentive compensation arrangements; (iii) have any material exceptions or adjustments to the incentive compensation arrangements established for senior executives approved and documented by its board of directors; and (iv) have its board of directors receive and review, on an annual or more frequent basis, an assessment by management of the effectiveness of the design and operation of the organization's incentive compensation system in providing risk-taking incentives that are consistent with the organization's safety and soundness.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on May 20, 2020.
Robert E. Feldman,
Executive Secretary.

[FR Doc. 2020-11223 Filed 5-22-20; 8:45 am]

BILLING CODE 6714-01-P